DEPARTMENT OF THE TREASURY

Submission for OMB Review; Comment Request

December 1, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 9, 2006 to be assured of consideration.

Internal Revenue Service (IRS)

OMB Number: 1545-0013.

Type of Review: Extension.

Title: Notice Concerning Fiduciary Relationship.

Form: IRS form 56.

Description: Form 56 is used to inform the IRS that a person is acting for another person in a fiduciary capacity so that the IRS may mail tax notices to the fiduciary concerning the persons for whom he/she is acting. The data is used to ensure that the fiduciary relationship is established or terminated and to mail or discontinue mailing designated tax notices to the fiduciary.

Respondents: Business or other for-profit, Individuals or households.

Estimated Total Burden Hours: 292,800 hours.

OMB Number: 1545-0430.

Type of Review: Extension.

Title: Request for Prompt Assessment Under Internal Revenue Code Section 6501(d).

Form: IRS form 4810.

Description: Form 4810 is used to request a prompt assessment under IRC Section 6501(d). IRS uses this form to locate the return to expedite processing of the taxpayer's request.

Respondents: Business or other for-profit, Individual or households, Farms and Federal Government.

Estimated Total Burden Hours: 2,000 hours.

OMB Number: 1545-0666.

Type of Review: Extension.

Title: Statement for Claiming Benefits Provided by Section 911 of the Internal Revenue Code.

Form: IRS form 673.

Description: Form 673 is completed by a citizen of the United States and is furnished to his or her employer in order to exclude from income tax withholding all or part of the wages paid the citizen for services performed outside the United States.

Respondents: Individual or households.

Estimated Total Burden Hours: 71,000 hours.

OMB Number: 1545-1221.

Type of Review: Extension.

Title: EE-147-87 (final) Qualified Separate Lines of Business.

Description: The affected public includes employers who maintain qualified employee retirement plans. Where applicable, the employer must furnish notice to the IRS that the employer treats itself as operating qualified separate lines of business and some may request an IRS determination that such lines satisfy administrative security.

Respondents: Business or other for-profit.

Estimated Total Burden Hours: 899 hours.

OMB Number: 1545-1511.

Type of Review: Extension.

Title: REG-209828-96 (Final) Nuclear Decommissioning Funds; Revised Schedules of Ruling Amounts.

Description: The regulations revise the requirements for requesting a schedule or ruling amounts based on a formula or method.

Respondents: Business or other for-profit.

Estimated Total Burden Hours: 100 hours.

OMB Number: 1545-1933.

Type of Review: Extension.

Title: Revenue Procedure 2005-28, Granting Automatic Consent to Change to the Alternative Tax Book Value Method of Valuing Assets for Expense Apportionment Purpose.

Form: IRS forms 1116 and 1118.

Description: This revenue procedure provides the administrative procedure under which an eligible taxpayer may obtain automatic consent to change from the fair market value method to the alternative tax book value method to the alternative tax book value method of valuing assets for purpose of apportioning expenses under section 1.861-9T(g) of the Temporary Income Tax Regulations. The procedure applies to changes in apportionment method requested for taxable years beginning between March 26, 2004 and March 25, 2006. The reporting and recordkeeping requirements imposed by the revenue procedure will enable the IRS to identify eligibility to use the procedure and the years for which the alternative tax book value method is being adopted. Likely respondents are corporations.

Respondents: Business or other for-profit, Individual or households.

Estimated Total Burden Hours: 100 hours.

OMB Number: 1545-1960.

Type of Review: Extension.

Title: Information Referral.

Form: IRS form 3949-A.

Description: This application is voluntary and the information requested helps us determine if there has been a violation of income Tax Law. We need the taxpayer identification number-Social Security Number (SSN) or Employer Identification Number (EIN) in order to fully process your application. Failure to provide this information may lead to suspension of processing this application.

Respondents: Individual or households.

Estimated Total Burden Hours: 53,750 hours.

OMB Number: 1545-1962.

Type of Review: Extension.

Title: Notice of Income Donated Intellectual Property.

Form: IRS form 8899.

Description: This form is filed by charitable org. receiving donations of intellectual property if the donor provides a timely notice. The initial deduction is limited to the donor's basis; additional deductions are allowed to the extent of income from the property, reducing excessive deductions.

Respondents: Business or other for-profit, Not-for-profit institutions.

Estimated Total Burden Hours: 5,430 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Michael A. Robinson,
Treasury PRA Clearance Officer.

[FR Doc. E5-7012 Filed 12-7-05; 8:45 am]

BILLING CODE 4830-01-P